DEPARTMENT OF THE TREASURY

Alcohol and Tobacco Tax and Trade Bureau

27 CFR Part 9

[Docket No. TTB-2014-0001; Notice No. 141]

RIN 1513-AC03

Proposed Establishment of the Manton Valley Viticultural Area

AGENCY: Alcohol and Tobacco Tax and Trade Bureau, Treasury.

ACTION: Notice of proposed rulemaking.

SUMMARY: The Alcohol and Tobacco Tax and Trade Bureau (TTB) proposes to establish the approximately 11,178-acre “Manton Valley” viticultural area in Shasta and Tehama Counties in northern California. The proposed viticultural area does not lie within, nor does it contain, any other established viticultural area. TTB designates viticultural areas to allow vintners to better describe the origin of their wines and to allow consumers to better identify wines they may purchase. TTB invites comments on this proposed addition to its regulations.

DATES: Comments must be received by March 17, 2014.

ADDRESSES: Please send your comments on this proposed rule to one of the following addresses (please note that TTB has a new address for comments submitted by U.S. mail):

• Internet: http://www.regulations.gov (via the online comment form for this proposed rule as posted within Docket No. TTB-2014-0001 at “Regulations.gov,” the Federal e-rulemaking portal);

• U.S. Mail: Director, Regulations and Rulings Division, Alcohol and Tobacco Tax and Trade Bureau, 1310 G Street NW., Box 12, Washington, DC 20005; or

• Hand delivery/courier in lieu of mail: Alcohol and Tobacco Tax and Trade Bureau, 1310 G Street NW., Suite 200-E, Washington, DC 20005.

See the Public Participation section of this proposed rule for specific instructions and requirements for submitting comments, and for information on how to request a public hearing.

You may view copies of this proposed rule, selected supporting materials, and any comments that TTB receives about this proposal at http://www.regulations.gov within Docket No. TTB-2014-0001. A link to that docket is posted on the TTB Web site at http://www.ttb.gov/wine/wine-rulemaking.shtml under Notice No. 141. You also may view copies of this proposed rule, all related petitions, maps, or other supporting materials, and any comments that TTB receives about this proposal by appointment at the TTB Information Resource Center, 1310 G Street NW., Washington, DC 20005. Please call 202-453-2270 to make an appointment.

FOR FURTHER INFORMATION CONTACT: Karen A. Thornton, Regulations and Rulings Division, Alcohol and Tobacco Tax and Trade Bureau, 1310 G Street NW., Box 12, Washington, DC 20005; phone 202-453-1039, ext. 175.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels, and ensure that labels provide the consumer with adequate information as to the identity and quality of the product. The Alcohol and Tobacco Tax and Trade Bureau (TTB) administers the FAA Act pursuant to section 1111(d) of the Homeland Security Act of 2002, codified at 6 U.S.C. 531(d). The Secretary has delegated various authorities through Treasury Department Order 120-01 (Revised), dated January 21, 2003, to the TTB Administrator to perform the functions and duties in the administration and enforcement of this law.

Part 4 of the TTB regulations (27 CFR part 4) allows the establishment of definitive viticultural areas and the use of their names as appellations of origin on wine labels and in wine advertisements. Part 9 of the TTB regulations (27 CFR part 9) sets forth standards for the preparation and submission of petitions for the establishment or modification of American viticultural areas (AVAs) and lists the approved AVAs.

Definition

Section 4.25(e)(1)(i) of the TTB regulations (27 CFR 4.25(e)(1)(i)) defines a viticultural area for American wine as a delimited grape-growing region having distinguishing features as described in part 9 of the regulations and a name and a delineated boundary as established in part 9 of the regulations. These designations allow vintners and consumers to attribute a given quality, reputation, or other characteristic of a wine made from grapes grown in an area to its geographic origin. The establishment of AVAs allows vintners to describe more accurately the origin of their wines to consumers and helps consumers to identify wines they may purchase. Establishment of an AVA is neither an approval nor an endorsement by TTB of the wine produced in that area.

Requirements

Section 4.25(e)(2) of the TTB regulations (27 CFR 4.25(e)(2)) outlines the procedure for proposing an AVA and provides that any interested party may petition TTB to establish a grape-growing region as an AVA. Section 9.12 of the TTB regulations (27 CFR 9.12) prescribes standards for petitions for the establishment or modification of AVAs. Petitions to establish an AVA must include the following:

• Evidence that the area within the proposed AVA boundary is nationally or locally known by the AVA name specified in the petition;

• An explanation of the basis for defining the boundary of the proposed AVA;

• A narrative description of the features of the proposed AVA affecting viticulture, such as climate, geology, soils, physical features, and elevation, that make the proposed AVA distinctive and distinguish it from adjacent areas outside the proposed AVA boundary;

• A copy of the appropriate United States Geological Survey (USGS) map(s) showing the location of the proposed AVA, with the boundary of the proposed AVA clearly drawn thereon; and

• A detailed narrative description of the proposed AVA boundary based on USGS map markings.

Manton Valley Petition

TTB received a petition from Mark Livingston, of Cedar Crest Vineyards, on behalf of Cedar Crest Vineyards and other vineyard and winery owners in Manton, California, proposing the establishment of the “Manton Valley” AVA. The proposed AVA contains approximately 11,178 acres, with 11 commercial vineyards, covering approximately 200 acres, distributed across the proposed AVA. The proposed AVA also has six bonded wineries. According to the petition, the distinguishing features of the proposed Manton Valley AVA include soils, topography, and climate. Unless otherwise noted, all information and data pertaining to the proposed AVA contained in this proposed rule come from the petition for the proposed Manton Valley AVA and its supporting exhibits.

Name Evidence

The proposed Manton Valley AVA derives its name from the township of Manton, which is located within the proposed AVA and appears on the USGS maps included with the petition. Manton Road runs through the proposed AVA, and a public primary school in the community is called the Manton School. The Manton Fire Department serves the region within the proposed AVA and is shown on the USGS Manton quadrangle map.

The petitioner chose to add the word “valley” to the proposed name in reference to the large valley in which the proposed AVA and the town of Manton are located. The USGS maps for the region do not identify the valley in which the proposed AVA is located as “Manton Valley,” but the petition included evidence that the region is known by that name. The official Web site for the community of Manton states that “Manton Valley is nestled in the shadow of Mt. Lassen” and includes a page describing the vineyards and wineries of the “Manton Valley Wine Country.” (See www.visitmantonca.com.) The Web site for Bailey Creek Lodge describes its location as being “nestled in the quiet Manton Valley of Northern California's Shasta County.” (See www.baileycreeklodge.com.) Finally, an advertisement for the Bar Z Ranch Bed and Breakfast in northern California describes the establishment as “a quaint bed and breakfast nestled in the rolling hills of the Manton Valley.” (See www.visitmantonca.com/BARZ.html.)

Boundary Evidence

The proposed Manton Valley AVA is described in the petition as a valley located between the north and south forks of Battle Creek in Shasta and Tehama Counties, in northern California. The east-west oriented valley has a roughly teardrop shape, with a wide western border and a narrower eastern border that tapers to a point.

The northern boundary of the proposed AVA follows a series of roads that separate the lower, rolling elevations of the proposed AVA from the higher, steeper elevations of Shingletown Ridge. The intersection of two roads marks the easternmost point of the boundary of the proposed AVA. This point also marks the narrow apex of both the valley and the proposed AVA and separates the gently rolling terrain of the proposed AVA from the steeper foothills of Mount Lassen. The southern boundary follows a series of roads that separate the proposed AVA from the lower, steeper elevations to the south. The western boundary follows a series of roads that separate the proposed AVA from the lower plateaus that dominate much of the region to the west.

Distinguishing Features

The distinguishing features of the proposed Manton Valley AVA include soils, topography, and climate.

Soils

Most of the soil within the proposed Manton Valley AVA has volcanic origins and is comprised of material from weathered volcanic rock, rhyolite, or volcanic ash. The major geologic formation beneath the proposed AVA is known as the Tuscan Formation, which was formed from basalt, basaltic andesite, and mudflows from volcanic eruptions. Erosion of the Tuscan Formation has contributed to the formation of many of the soils within the proposed AVA, such as Cohasset gravelly loams, Forward sandy loams, and Manton sandy loams. These three soils comprise approximately 73 percent of the soils found in the proposed Manton Valley AVA. The three soils are described as well-drained, a characteristic that aids in preventing mildew and rot in the vines. These soils also are generally shallow and nutrient-poor. Leaf canopies do not become overly thick and excessively shady in nutrient-poor soils, so the grape clusters are exposed to more sunlight and ripen more quickly than fruit that is shaded by the excessive canopy growth that nutrient-rich soils can promote. Vineyards planted in nutrient-poor soils also yield fewer grapes than vineyards planted in more fertile soil. According to the petition, the vineyards within the proposed AVA average approximately 3 tons of grapes per acre, compared to a typical yield of 15 tons per acre from the more fertile soils of the Sacramento Valley, farther to the west and southwest.

The soils to the north of the proposed AVA are dominated by Windy and McCarthy stony loams. These series are generally associated with conifer forests and elevations higher than those found within the proposed AVA.

The soils to the east of the proposed Manton Valley AVA are primarily comprised of Sheld series soils, which occur on steep slopes. The petition notes that the shallowness, erosion potential, and excessive stoniness of the soils in this region categorize them as Class 7 soils under the Natural Resource Conservation Service land capability classification system, meaning they are generally unsuitable for agricultural purposes due to one or more deficiencies that cannot be overcome. As a result, most of the land in the region to the east of the proposed AVA is used for grazing livestock or as wildlife habitat.

Slightly south of the proposed AVA, near Paynes Creek, the soils are primarily comprised of Supan and Toomes series loams. These soils are also classified as Class 7 soils, due to their rocky nature. Small pockets of alluvial soils that do support a few small vineyards are found along Paynes Creek and the South Fork of Battle Creek; but these small vineyards are the exception, and most of the soils south of the proposed AVA are used for grazing cattle.

The soils to the immediate west of the proposed AVA are almost entirely of the Guenoc and Toomes series. These soils are very rocky, filled with boulders, and nutrient deficient and are generally used for grazing livestock, rather than agriculture. Farther to the west is the Sacramento River Valley, which has its northernmost end near the towns of Redding and Red Bluff, approximately 30-35 miles from the proposed AVA. In the Sacramento River Valley, the soils are derived primarily from deep quaternary sediments. These soils are nutrient-rich, allowing vineyards to produce much larger harvests than vineyards within the proposed AVA.

Topography

The proposed Manton Valley AVA lies entirely within a stream-cut valley bordered by the two main forks of Battle Creek. Within the western portion of the proposed AVA, the land is relatively flat. Heading eastward across the proposed AVA, the land becomes progressively hillier. The northern and southern sides of the valley are marked by vertical canyons, where the forks of Battle Creek have carved deeply into the land. Slope angles within the proposed AVA range between 0 and 30 percent, according to the USDA soil survey maps included with the petition. The slope angles are shallow enough to reduce the risk of soil erosion and to allow for grape cultivation. The USGS maps show the average elevations within the proposed AVA range from approximately 2,000 feet to approximately 3,500 feet. According to the petition, the elevations within the proposed AVA provide vineyards with cooler temperatures than the lower elevations to the south and west of the proposed AVA. Additionally, vineyards within the proposed AVA are less subject to a risk of damaging frosts or snows than the mountains found in the higher elevations to the north and east.

The proposed AVA also has numerous spring-fed streams, which supply water to irrigation canals, irrigation ponds, and small lakes, providing a reliable, year-round source of irrigation water for vineyards. The streams also transport nutrients and minerals from eroded soils into the irrigation canals and ponds and, eventually, into the vineyards.

To the north of the proposed AVA is the steeper, higher terrain of the Shingletown Ridge. Elevations in this region range from approximately 2,400 feet to approximately 3,800 feet. According to the USDA soil survey maps, slopes in this region range between 30 and 50 percent. The slopes are generally not suitable for viticulture due to their steepness, and the elevations make the ridge prone to frost and heavy snow.

To the east of the proposed AVA, the terrain becomes steeper and higher. Slope angles in the region immediately to the east of the proposed AVA range from 30 to 65 percent. Elevations and steepness continue to increase farther to the east within Lassen Volcanic National Park, approximately 25 miles from the proposed AVA. Mount Lassen, the highest peak within the park, has an elevation of 10,457 feet. At night during the summer, cool mountain air flows down the mountains of the park, providing overnight cooling to the lower elevations outside the park, including the proposed Manton Valley AVA.

The region to the immediate south of the proposed AVA has lower elevations than the proposed AVA. Along the South Fork of Battle Creek, elevations range between 1,200 and 1,600 feet. Although the elevations are lower than within the proposed AVA, the slope angles in this region are steeper than the relatively gentle rolling valley of the proposed AVA, ranging between 30 and 50 percent, as shown on the USDA soil survey map.

To the immediate west of the proposed Manton Valley AVA are large plateaus and elevations that are generally lower than those found within the proposed AVA. The USGS maps show elevations ranging from approximately 1,000 to 1,900 feet. Slope angles in this region are similar to those within the proposed AVA.

Climate

The climate of the proposed Manton Valley AVA differs from that of the surrounding region in terms of growing degree days, diurnal temperature differential, and precipitation. Each of these climatic aspects has an effect on viticulture within the proposed AVA.

The petition included information on growing degree days (GDDs) ¹ based on temperature readings for the period between April 1 and October 31 gathered from locations both within and outside of the proposed AVA. The data from Alger Vineyards, which is within the proposed AVA, was collected from 2002 to 2011. The data from the Black Butte weather station, to the north of the proposed AVA, is from the period between 2008 and 2011. The data from the weather stations in Manzanita Lake, to the east, from Chico, to the south, and from Redding and Red Bluff, to the west, was all collected between 2002 and 2011. The table below summarizes the data.

¹ In the Winkler climate classification system, annual heat accumulation during the growing season, measured in annual growing degree days (GDDs), defines climatic regions. One GDD accumulates for each degree Fahrenheit that a day's mean temperature is above 50 degrees, the minimum temperature required for grapevine growth. See Albert J. Winkler, General Viticulture (Berkeley: University of California Press, 1974), pages 61-64.

Average Annual GDD Accumulation
Location | Direction with respect to proposed AVA | Annual growing degree days | Winkler classification
Alger Vineyards | Within | 3,428 | Region III.
Black Butte | North | 3,400 | Region III.
Manzanita Lake | East | 1,285 | Region I.
Chico | South | 4,200 | Region V.
Redding | West | 4,651 | Region V.
Red Bluff | West | 4,712 | Region V.

As shown in the table, the proposed Manton Valley AVA accumulates significantly more GDDs than the cooler region to the east and fewer GDDs than the very warm regions to the south and west. Although the region to the north has a similar accumulation of GDDs, the petition notes that temperatures to the north of the proposed AVA reach 50 degrees F earlier in the growing season and do not drop as low at night, allowing the GDDs to accumulate at a faster rate than within the proposed AVA. A faster rate of GDD accumulation enables growers in the vicinity of Black Butte to harvest their grapes several weeks earlier than growers in the proposed Manton Valley AVA.

The GDD accumulation of the proposed Manton Valley AVA places it in the moderately warm Region III category, allowing growers to plant warmer varieties of grapes, such as Merlot, Cabernet Sauvignon, Zinfandel, and Viognier. As previously noted, the rate at which GDDs accumulate also plays a role in when grapes are ripe enough to harvest.

The proposed Manton Valley AVA also experiences a greater temperature difference between daytime highs and nighttime lows (diurnal temperature differential) than the surrounding regions. The petition states that this greater diurnal temperature differential is due to the nighttime cold air drainage that flows from the high ridges of Lassen Peak, to the east of the proposed AVA, and from the slopes of Shingletown Ridge, to the north, into the lower elevations of the proposed AVA, providing overnight cooling to the vineyards in the proposed Manton Valley AVA. The table below summarizes the July temperature differentials for the proposed AVA and the surrounding regions. July was chosen because that month is the peak of the growing season.

Average July Diurnal Temperature Differential
Location | Direction with respect to proposed AVA | Differential (in degrees F)
Alger Vineyards | Within | 38.3
Black Butte | North | 28
Manzanita Lake | East | 30
Chico | South | 32
Redding | West | 32.3
Red Bluff | West | 32.3

The large drop in temperature at night within the proposed AVA delays fruit maturation and extends the growing season. The petition states that harvest within the proposed AVA begins in very late September or October and often continues until early December. By contrast, most growers in the surrounding regions begin harvesting in late August and early September. The petition also states that the delayed maturation brought about by cooler nighttime temperatures allows the grapes to maintain a desirable balance of sugars, pH, and acid. Grapes within the proposed AVA are generally harvested with sugar levels between 23 and 26 brix units, a pH between 3.3 and 3.6, and total acid between 0.6 and 0.8 percent. By contrast, fruit from warmer regions to the west of the proposed AVA reaches full ripeness sooner and typically has lower acid levels, higher pH levels, and higher amounts of sugar, factors which must be compensated for during the winemaking process.

The amount of precipitation within the proposed Manton Valley AVA also differentiates it from the surrounding regions. The following table shows the average monthly and annual precipitation amounts for the proposed AVA and adjacent regions. Data was collected from weather stations from 2002 to 2011.

Average Annual Precipitation Amounts
Month | Location (Direction with respect to proposed AVA): Manton (within) | Location (Direction with respect to proposed AVA): Paynes Creek (south) | Location (Direction with respect to proposed AVA): Red Bluff (west) | Location (Direction with respect to proposed AVA): Shingletown (north) | Location (Direction with respect to proposed AVA): Manzanita Lake (east)
January | 5.47 | 5.62 | 4.45 | 7.7 | 8.3
February | 4.83 | 4.29 | 3.75 | 6.31 | 7.02
March | 4.33 | 4.33 | 2.9 | 5.66 | 3.88
April | 2.88 | 3.08 | 1.63 | 3.95 | 3.4
May | 2.04 | 1.24 | 1.05 | 1.88 | 2.32
June | 0.99 | 0.47 | 0.46 | 0.82 | 2.6
July | 0.12 | 0.15 | 0.07 | 0.24 | 1.5
August | 0.27 | 0.32 | 0.14 | 0.72 | 0.9
September | 0.83 | 0.96 | 0.46 | 1.2 | 1.4
October | 2.21 | 2.33 | 1.37 | 3.38 | 3.76
November | 4.25 | 4.49 | 2.9 | 6.78 | 3.45
December | 5.43 | 5.63 | 4.02 | 7.17 | 6.86
Average annual inches | 33.65 | 32.91 | 23.2 | 45.81 | 42.43

The data in the table show that the proposed Manton Valley AVA has higher annual precipitation levels than the region to the west and lower levels than the regions to the north and east. Although low precipitation amounts during the summer months ordinarily would pose a problem for viticulture, growers within the proposed AVA are not entirely dependent on rainfall due to the area's numerous spring-fed creeks and streams that supply water to irrigation ponds and canals. The petition also states that the end of the growing season in the proposed AVA is relatively dry, with low levels of humidity during the late summer and autumn in addition to low precipitation amounts. The low rainfall levels, combined with low humidity, reduce the risk of mildew and rot caused by wet growing conditions, particularly late in the growing season. As a result, growers in the proposed AVA are able to allow their fruit to stay on the vine longer, giving the fruit time to mature slowly and achieve the desired sugar, acid, and pH levels. The petition notes that although Red Bluff has significantly less rainfall than the proposed AVA, the town's location on the Sacramento River leads to an increase in relative humidity, so grapes cannot stay on the vine as long as grapes within the proposed AVA without risking mildew or rot.

Summary of Distinguishing Features

In summary, the evidence provided in the petition indicates that the viticulturally significant geographic features of the proposed Manton Valley AVA distinguish it from the surrounding regions in each direction. To the north of the proposed AVA, the terrain is steeper and elevations are higher, the diurnal temperature differential is lower, rainfall is greater, and the soils are predominately Windy and McCarthy stony loams. To the east, elevations are higher and slope angles are greater, there are significantly fewer growing degree days, rainfall amounts are higher, and soils are predominately of the Sheld series, which are unsuitable for agriculture. To the south, elevations are lower, slope angles are greater, growing degree day accumulations are significantly higher, and the soils are of the Supan and Toomes series, which also are unsuitable for agriculture. The region to the west of the proposed AVA is characterized by lower elevations and large plateaus, significantly warmer temperatures, less rainfall, and soils of the Guenoc and Toomes series.

TTB Determination

TTB concludes that the petition to establish the 11,178-acre Manton Valley AVA merits consideration and public comment, as invited in this proposed rule.

Boundary Description

See the narrative boundary description of the petitioned-for AVA in the proposed regulatory text published at the end of this proposed rule.

Maps

The petitioner provided the required maps, and they are listed below in the proposed regulatory text.

Impact on Current Wine Labels

Part 4 of the TTB regulations prohibits any label reference on a wine that indicates or implies an origin other than the wine's true place of origin. If TTB establishes this proposed AVA, its name, “Manton Valley,” will be recognized as a name of viticultural significance under 27 CFR 4.39(i)(3). The text of the proposed regulation clarifies this point. Consequently, if this proposed rule is adopted as a final rule, wine bottlers using the name “Manton Valley” in a brand name, including a trademark, or in another label reference as to the origin of the wine, would have to ensure that the product is eligible to use the AVA name as an appellation of origin.

TTB does not believe that “Manton,” standing alone, should have viticultural significance if the proposed AVA is established, due to the widespread use of “Manton” as a geographical name within the United States. A GNIS search shows the name “Manton” used in reference to over 30 locations in 7 States outside the proposed AVA. Accordingly, the proposed part 9 regulatory text set forth in this document specifies only the full name “Manton Valley” as a term of viticultural significance for purposes of part 4 of the TTB regulations.

For a wine to be labeled with an AVA name, at least 85 percent of the wine must be derived from grapes grown within the area represented by that name, and the wine must meet the other conditions listed in 27 CFR 4.25(e)(3). If the wine is not eligible for labeling with an AVA name and that name appears in the brand name, then the label is not in compliance and the bottler must change the brand name and obtain approval of a new label. Similarly, if the AVA name appears in another reference on the label in a misleading manner, the bottler would have to obtain approval of a new label.

Different rules apply if a wine has a brand name containing an AVA name that was used as a brand name on a label approved before July 7, 1986. See 27 CFR 4.39(i)(2) for details.

Public Participation

Comments Invited

TTB invites comments from interested members of the public on whether it should establish the proposed AVA. TTB is also interested in receiving comments on the sufficiency and accuracy of the name, boundary, soils, climate, and other required information submitted in support of the petition. Please provide any available specific information in support of your comments.

Because of the potential impact of the establishment of the proposed Manton Valley AVA on wine labels that include the term “Manton Valley,” as discussed above under Impact on Current Wine Labels, TTB is particularly interested in comments regarding whether there will be a conflict between the proposed area name and currently used brand names. If a commenter believes that a conflict will arise, the comment should describe the nature of that conflict, including any anticipated negative economic impact that approval of the proposed AVA will have on an existing viticultural enterprise. TTB is also interested in receiving suggestions for ways to avoid conflicts, for example, by adopting a modified or different name for the AVA.

Submitting Comments

You may submit comments on this proposed rule by using one of the following three methods (please note that TTB has a new address for comments submitted by U.S. Mail):

• Federal e-Rulemaking Portal: You may send comments via the online comment form posted with this proposed rule within Docket No. TTB-2014-0001 on “Regulations.gov,” the Federal e-rulemaking portal, at http://www.regulations.gov. A direct link to that docket is available under Notice No. 141 on the TTB Web site at http://www.ttb.gov/wine/wine-rulemaking.shtml. Supplemental files may be attached to comments submitted via Regulations.gov. For complete instructions on how to use Regulations.gov, visit the site and click on the “Help” tab.

• U.S. Mail: You may send comments via postal mail to the Director, Regulations and Rulings Division, Alcohol and Tobacco Tax and Trade Bureau, 1310 G Street NW., Box 12, Washington, DC 20005.

• Hand Delivery/Courier: You may hand-carry your comments or have them hand-carried to the Alcohol and Tobacco Tax and Trade Bureau, 1310 G Street NW., Suite 200-E, Washington, DC 20005.

Please submit your comments by the closing date shown above in this proposed rule. Your comments must reference Notice No. 141 and include your name and mailing address. Your comments also must be made in English, be legible, and be written in language acceptable for public disclosure. TTB does not acknowledge receipt of comments, and TTB considers all comments as originals.

In your comment, please clearly indicate if you are commenting on your own behalf or on behalf of an association, business, or other entity. If you are commenting on behalf of an entity, your comment must include the entity's name as well as your name and position title. If you comment via Regulations.gov, please enter the entity's name in the “Organization” blank of the online comment form. If you comment via postal mail or hand delivery/courier, please submit your entity's comment on letterhead.

You may also write to the Administrator before the comment closing date to ask for a public hearing. The Administrator reserves the right to determine whether to hold a public hearing.

Confidentiality

All submitted comments and attachments are part of the public record and subject to disclosure. Do not enclose any material in your comments that you consider to be confidential or inappropriate for public disclosure.

Public Disclosure

TTB will post, and you may view, copies of this proposed rule, selected supporting materials, and any online or mailed comments received about this proposal within Docket No. TTB-2014-0001 on the Federal e-rulemaking portal, Regulations.gov, at http://www.regulations.gov. A direct link to that docket is available on the TTB Web site at http://www.ttb.gov/wine/wine-rulemaking.shtml under Notice No. 141. You may also reach the relevant docket through the Regulations.gov search page at http://www.regulations.gov. For information on how to use Regulations.gov, click on the site's “Help” tab.

All posted comments will display the commenter's name, organization (if any), city, and State, and, in the case of mailed comments, all address information, including email addresses. TTB may omit voluminous attachments or material that the Bureau considers unsuitable for posting.

You may also view copies of this proposed rule, all related petitions, maps and other supporting materials, and any electronic or mailed comments that TTB receives about this proposal by appointment at the TTB Information Resource Center, 1310 G Street NW., Washington, DC 20005. You may also obtain copies at 20 cents per 8.5- × 11-inch page. Contact TTB's information specialist at the above address or by telephone at 202-453-2270 to schedule an appointment or to request copies of comments or other materials.

Regulatory Flexibility Act

TTB certifies that this proposed regulation, if adopted, would not have a significant economic impact on a substantial number of small entities. The proposed regulation imposes no new reporting, recordkeeping, or other administrative requirement. Any benefit derived from the use of an AVA name would be the result of a proprietor's efforts and consumer acceptance of wines from that area. Therefore, no regulatory flexibility analysis is required.

Executive Order 12866

This proposed rule is not a significant regulatory action as defined by Executive Order 12866 of September 30, 1993. Therefore, no regulatory assessment is required.

Drafting Information

Karen A. Thornton of the Regulations and Rulings Division drafted this proposed rule.

List of Subjects in 27 CFR Part 9

Wine.

Proposed Regulatory Amendment

For the reasons discussed in the preamble, TTB proposes to amend title 27, chapter I, part 9, Code of Federal Regulations, as follows:

PART 9—AMERICAN VITICULTURAL AREAS

1. The authority citation for part 9 continues to read as follows:

Authority: 27 U.S.C. 205.

Subpart C—Approved American Viticultural Areas

2. Subpart C is amended by adding § 9.____to read as follows:

§ 9. Manton Valley.

(a) Name. The name of the viticultural area described in this section is “Manton Valley”. For purposes of part 4 of this chapter, “Manton Valley” is a term of viticultural significance.

(b) Approved maps. The three United States Geological Survey (USGS) 1:24,000 scale topographic maps used to determine the boundary of the Manton Valley viticultural area are titled:

(1) Manton, CA, 1995;

(2) Shingletown, CA, 1985 (provisional); and

(3) Grays Peak, CA, 1995.

(c) Boundary. The Manton Valley viticultural area is located in Shasta and Tehama Counties in northern California. The boundary of the Manton Valley viticultural area is as described below:

(1) The beginning point is on the Manton map, in the community of Manton, at the intersection of three unnamed light-duty roads known locally as Manton Road, Forward Road, and Rock Creek Road, section 21, T30N/R1E. From the beginning point, proceed northerly, then northeasterly on Rock Creek Road approximately 0.8 mile to the road's intersection with an unnamed light-duty road known locally as Wilson Hill Road, section 21, T30N/R1E; then

(2) Proceed westerly, then northerly on Wilson Hill Road, crossing onto the Shingletown map, then continue westerly, then northerly, then northeasterly on the turning Wilson Hill Road, approximately 4 miles in total distance, to the road's intersection with the marked power line in section 8, T30N/R1E; then

(3) Proceed east-southeasterly along the marked power line, crossing onto the Manton map, approximately 1.1 miles to the power line's intersection with the Volta Powerhouse, section 16, T30N/R1E; then

(4) From the Volta Powerhouse, proceed south-southeasterly (downstream) along an aqueduct and penstock, approximately 0.7 mile in total distance, to the penstock's intersection with the North Fork of Battle Creek, section 16, T30N/R1E; then

(5) Proceed north-northeasterly (upstream) along the North Fork of Battle Creek approximately 0.3 mile to the confluence of Bailey Creek, section 15, T30N/R1E; then

(6) Proceed east-northeasterly (upstream) along Bailey Creek approximately 2 miles to the creek's intersection with an unnamed light-duty road known locally as Manton Ponderosa Way, section 11; T30N/R1E; then

(7) Proceed southeasterly along Manton Ponderosa Way approximately 1.8 miles to the road's intersection with Rock Creek Road, and then proceed westerly on Rock Creek Road approximately 0.05 mile to the road's intersection with an unnamed light-duty road known locally as Forwards Mill Road, section 19, T30N/R2E; then

(8) Proceed easterly along Forwards Mill Road approximately 4.5 miles, crossing onto the Grays Peak map, to the road's intersection with an unnamed light-duty road known locally as Forward Road, section 26, T30N/R2E; then

(9) Proceed generally westerly along Forward Road approximately 4.8 miles, crossing onto the Manton map, to the road's intersection with an unnamed light-duty road known locally as Ponderosa Way, section 31, T30N/R2E; then

(10) Proceed southerly along Ponderosa Way approximately 1.7 miles to the road's intersection with an unimproved road (Pacific Gas and Electric service road, approximately 0.25 mile west-southwest of Bluff Springs), section 1, T29N/R1E; then

(11) Proceed westerly along the unimproved road approximately 2.2 miles to the road's intersection with the South Battle Creek Canal, section 3, T29N/R1E; then

(12) Proceed generally northwesterly (downstream) along the meandering South Battle Creek Canal approximately 1.3 miles to the canal's intersection with an unimproved road known locally as South Powerhouse Road, section 4, T29N/R1E; then

(13) Proceed northerly along South Powerhouse Road approximately 2 miles to the road's intersection with an unnamed light-duty road known locally as Manton Road, section 21, T30N/R1E; then

(14) Proceed easterly along Manton Road approximately 0.1 mile, returning to the beginning point.

Signed: December 20, 2013.
John J. Manfreda,
Administrator.

[FR Doc. 2014-00523 Filed 1-13-14; 8:45 am]

BILLING CODE 4810-31-P